DEPARTMENT OF TRANSPORTATION

National Highway Traffic Safety Administration

49 CFR Parts 541, 542 and 543

[Docket No. NHTSA-2002-12231]

RIN 2127-A146

Federal Motor Vehicle Theft Prevention Standard; Correction

AGENCY: National Highway Traffic Safety Administration, DOT.

ACTION: Correcting amendments.

SUMMARY: On April 6, 2004, the National Highway Traffic Safety Administration (NHTSA) published a final rule extending anti-theft parts marking requirements pursuant to the Anti Car Theft Act of 1992 and subsequent finding by the Attorney General. The preamble and the regulatory text of the final rule contain several typographical errors and require an application clarification.

This document corrects the typographical errors and clarifies the application of the standard.

DATES: Effective on September 1, 2006.

FOR FURTHER INFORMATION CONTACT: Mr. George Feygin, Office of Chief Counsel (Telephone: 202-366-2992) (Fax: 202-366-3820), 400 Seventh Street, SW., Washington, DC 20590.

SUPPLEMENTARY INFORMATION: On April 6, 2004, the National Highway Traffic Safety Administration (NHTSA) published a final rule extending anti-theft parts marking requirements pursuant to the Anti Car Theft Act of 1992 and subsequent finding by the Attorney General. The final rule extending parts marking requirements applies to all passenger cars; multipurpose passenger vehicles with a gross vehicle weight rating (GVWR) of 6,000 pounds or less; and certain light trucks with a GVWR of 6,000 pounds or less. A portion of the preamble and the regulatory text require additional text to clarify that the final rule applies to all passenger cars regardless of GVWR.

In addition, the final rule contained several typographical errors and outdated citations of authority. NHTSA is publishing this correcting amendment to remedy these errors.

This amendment to the final rule is effective September 1, 2006. Making this clarification and remedying these errors will not impose any additional substantive requirements or burdens on manufacturers. Therefore, NHTSA finds for good cause that notice and opportunity for comment on these amendments are not necessary.

In FR Doc. 04-7492 published on April 6, 2004 (69 FR 17960), make the following corrections:

1. On page 17965, in the second column, second paragraph under subsection “3. Gross Vehicle Weight Rating,” the second sentence is corrected as follows: “Therefore, NHTSA does not have the authority to apply this standard to multipurpose passenger vehicles with a GVWR greater than 6,000 pounds or to light duty trucks with a GVWR greater than 6,000 pounds.”

PART 541—[CORRECTED]

2. On page 17967, first column, the authority citation for part 541 is corrected as follows:

1. The authority citation for part 541 continues to read as follows:

Authority: 49 U.S.C. 322, 33101, 33102, 33103, 33104, 33105; delegation of authority at 49 CFR 1.50.

3. On page 17967, first column, § 541.3(a) is corrected as follows:

§ 541.3 Application.

* * * * *

(a) Passenger motor vehicle parts identified in § 541.5(a) that are present:

(1)(i) In passenger cars; and

(ii) multipurpose passenger vehicles with a gross vehicle weight rating of 6,000 pounds or less; and

(2) In light duty trucks with a gross vehicle weight rating of 6,000 pounds or less, that NHTSA has finally determined pursuant to 49 CFR part 542, to be high theft based on the 1990/91 median theft rate and listed in appendix A of this part; and

(3) In light duty trucks with a gross vehicle weight rating of 6,000 pounds or less, that NHTSA has finally determined pursuant to 49 CFR part 542, to have a majority of major parts interchangeable with those of a passenger motor vehicle identified in § 541.3(a)(1) and (2) and listed in appendix B of this part.

* * * * *

Appendix C to Part 541—[Corrected]

4. On page 17967, third column, the sentence under the subheading “Application” in appendix C to part 541 is corrected to read as follows: “These criteria apply to lines of passenger motor vehicles initially introduced into commerce on or after September 1, 2006.”

5. On page 17967, third column, the first sentence under the subheading “Methodology” in appendix C to part 541 is corrected to read as follows: “These criteria will be applied to each line initially introduced into commerce on or after September 1, 2006.”

PART 542—[CORRECTED]

6. On page 17967, third column, the authority citation for part 542 is corrected as follows:

1. The authority citation for part 542 continues to read as follows:

Authority: 49 U.S.C. 322, 33101, 33102, 33103, 33104, 33105; delegation of authority at 49 CFR 1.50.

7. On page 17968, first column, § 542.1(b) is corrected to read as follows:

§ 542.1 Procedures for selecting new light duty truck lines that are likely to have high or low theft rates.

* * * * *

(b) Application. These procedures apply to each manufacturer that plans to introduce a new light duty truck line into commerce in the United States on or after September 1, 2006, and to each of those new lines.

* * * * *

PART 543—[CORRECTED]

8. On page 17968, third column, the authority citation for part 543 is corrected as follows:

1. The authority citation for part 543 continues to read as follows:

Authority: 49 U.S.C. 322, 33101, 33102, 33103, 33104, 33105; delegation of authority at 49 CFR 1.50.

Issued: June 16, 2004.
Stephen R. Kratzke,
Associate Administrator for Rulemaking.

[FR Doc. 04-14073 Filed 6-21-04; 8:45 am]

BILLING CODE 4910-59-P